DEPARTMENT OF COMMERCE

Foreign-Trade Zones Board

[S-28-2020]

Foreign-Trade Zone 107—Polk County, Iowa, Application for Subzone Expansion, Winnebago Industries, Inc., Forest City and Charles City, Iowa

An application has been submitted to the Foreign-Trade Zones (FTZ) Board by the Iowa Foreign Trade Zone Corporation, grantee of FTZ 107, requesting an expansion of Subzone 107A on behalf of Winnebago Industries, Inc., in Forest City and Charles City, Iowa. The application was submitted pursuant to the provisions of the Foreign-Trade Zones Act, as amended (19 U.S.C. 81a-81u), and the regulations of the FTZ Board (15 CFR part 400). It was formally docketed on February 11, 2020.

Subzone 107A currently consists of the following sites: Site 1 (237.32 acres) North Plant at Highways 9 and 69, South Plant at 4th Street and Crystal Lake Road, Forest City; Site 2 (21 acres) 1200 Rove Avenue, Charles City; and, Site 3 (7.49 acres) 808 N Lake St., Lake Mills.

The proposed expanded subzone would include the following additional sites: Site 4 (10.63 acres) 305 Nerem Drive, Forest City; and, Site 5 (11.06 acres) 715 East Corporate Drive, Charles City. No authorization for expanded production activity has been requested at this time. The subzone will be subject to the existing activation limit of FTZ 107.

In accordance with the FTZ Board's regulations, Elizabeth Whiteman of the FTZ Staff is designated examiner to review the application and make recommendations to the Executive Secretary.

Public comment is invited from interested parties. Submissions shall be addressed to the FTZ Board's Executive Secretary and sent to: ftz@trade.gov. The closing period for their receipt is March 31, 2020. Rebuttal comments in response to material submitted during the foregoing period may be submitted during the subsequent 15-day period to April 15, 2020.

A copy of the application will be available for public inspection in the “Reading Room” section of the FTZ Board's website, which is accessible via www.trade.gov/ftz.

For further information, contact Elizabeth Whiteman at Elizabeth.Whiteman@trade.gov or (202) 482-0473.

Dated: February 12, 2020.
Andrew McGilvray,
Executive Secretary.

[FR Doc. 2020-03382 Filed 2-19-20; 8:45 am]

BILLING CODE 3510-DS-P